DEPARTMENT OF THE INTERIOR

National Park Service

[NPS-WASO-NAGPRA-NPS0039029; PPWOCRADN0-PCU00RP14.R50000]

Notice of Intended Repatriation: The San Diego Archaeological Center, San Diego, CA

AGENCY: National Park Service, Interior.

ACTION: Notice.

SUMMARY: In accordance with the Native American Graves Protection and Repatriation Act (NAGPRA), the San Diego Archaeological Center intends to repatriate certain cultural items that meet the definition of unassociated funerary objects, sacred objects, or objects of cultural patrimony and that have a cultural affiliation with the Indian Tribes or Native Hawaiian organizations in this notice.

DATES: Repatriation of the cultural items in this notice may occur on or after December 16, 2024.

ADDRESSES: Stephanie Sandoval, The San Diego Archaeological Center, 16666 San Pasqual Valley Road, Escondido, CA 92027, telephone (760) 291-0370, email sjsandoval@sandiegoarchaeology.org.

SUPPLEMENTARY INFORMATION: This notice is published as part of the National Park Service's administrative responsibilities under NAGPRA. The determinations in this notice are the sole responsibility of the San Diego Archaeological Center and additional information on the determinations in this notice, including the results of consultation, can be found in the summary or related records. The National Park Service is not responsible for the determinations in this notice.

Abstract of Information Available

An approximate total of 12,901 cultural items representing 16 archaeological collections have been requested for repatriation by the Kumeyaay Cultural Repatriation Committee (KCRC), on behalf of the 12 Federally recognized Kumeyaay Tribal Nations. The 58 unassociated funerary objects include the following material classes: Ground stone fragments and Shell beads/fragments; the 569 sacred objects include the following material classes: Ceramic pipe fragments, figurine fragments, and rattle beads; Chipped stone biface, blanks, core, debitage, flakes, points, tools, and sucking tube fragment; Ground stone pendants; Ochre mineral fragment; Shell beads and pendants; and tourmaline crystals; and the 12,274 objects of cultural patrimony include the following material classes: Bone (faunal) modified and unmodified; Ceramics; Chipped stone tools; Chipped stone; Ground stone tools; Historic; Lithics; Samples (charcoal and soil); Vegetal modified and unmodified; Shell modified and unmodified.

There is no known presence of any potentially hazardous substances used to treat any of the cultural items mentioned in this notice.

Determinations

The San Diego Archaeological Center has determined that:

• The 58 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 569 sacred objects described in this notice are specific ceremonial objects needed by a traditional Native American religious leader for present-day adherents to practice traditional Native American religion, according to the Native American traditional knowledge of a lineal descendant, Indian Tribe, or Native Hawaiian organization.

• The 12,274 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 16, 2024. If competing requests for repatriation are received, the San Diego Archaeological Center must determine the most appropriate requestor prior to repatriation. Requests for joint repatriation of the cultural items are considered a single request and not competing requests. The San Diego Archaeological Center is responsible for sending a copy of this notice to the Indian Tribes and Native Hawaiian organizations identified in this notice and to any other consulting parties.

Authority: Native American Graves Protection and Repatriation Act, 25 U.S.C. 3004 and the implementing regulations, 43 CFR 10.9.

Dated: November 5, 2024.
Melanie O'Brien,
Manager, National NAGPRA Program.

[FR Doc. 2024-26456 Filed 11-13-24; 8:45 am]

BILLING CODE 4312-52-P